ENVIRONMENTAL PROTECTION AGENCY

40 CFR Part 52

[WI116-01-7346a; FRL-7515-5]

Approval and Promulgation of Implementation Plans; Wisconsin; Revised Motor Vehicle Emissions Inventories and Motor Vehicle Emissions Budgets Using MOBILE6

AGENCY: Environmental Protection Agency (EPA).

ACTION: Direct final rule.

SUMMARY: EPA is approving a revision to the Wisconsin State Implementation Plan (SIP) for the attainment and maintenance of the 1-hour national ambient air quality standard (NAAQS) for ozone. Specifically, EPA is approving Wisconsin's revised 2007 motor vehicle emission inventories and 2007 Motor Vehicle Emissions Budgets (MVEB) recalculated using MOBILE6 for the Milwaukee severe ozone area and the Sheboygan ozone maintenance area. EPA is also approving a new 2012 projected MVEB for the Sheboygan ozone maintenance area

DATES: This rule is effective on August 19, 2003, unless EPA receives relevant adverse written comments by July 21, 2003. If adverse comment is received, EPA will publish a timely withdrawal of the rule in the Federal Register and inform the public that the rule will not take effect.

ADDRESSES: You should send written comments to: Carlton Nash, Chief, Regulation Development Section, Air Programs Branch (AR-18J), U.S. Environmental Protection Agency, Region 5, 77 West Jackson Boulevard, Chicago, Illinois 60604.

You may inspect copies of the State submittal and EPA's analysis of it at: Regulation Development Section, Air Programs Branch (AR-18J), U.S. Environmental Protection Agency, Region 5, 77 West Jackson Boulevard, Chicago, Illinois 60604. (Please telephone Michael Leslie at (312) 353-6680 before visiting the Region 5 Office.)

FOR FURTHER INFORMATION CONTACT: Michael Leslie, Environmental Engineer, Regulation Development Section (AR-18J), Air Programs Branch, Air and Radiation Division, United States Environmental Protection Agency, Region 5, 77 West Jackson Boulevard, Chicago, Illinois 60604, (312) 353-6680, leslie.michael@epa.gov.

SUPPLEMENTARY INFORMATION: This section is organized as follows:

I. Background.

II. What is MOBILE6?

III. What is the purpose and content of Wisconsin's submittal?

IV. What are the revised MOBILE6 inventories?

V. Are the revised MOBILE6 inventories consistent with Wisconsin's One-Hour Attainment Demonstration?

VI. Are Wisconsin's Motor Vehicle Emissions Budgets approvable?

VII. EPA Action.

VIII. Statutory and Executive Order Reviews.

I. Background

In November of 1999, EPA issued two memoranda ¹ to articulate its policy regarding states that incorporated MOBILE5-based interim Tier 2 standard ² benefits into their SIPs and MVEBs. Although these memoranda primarily targeted certain serious and severe ozone nonattainment areas, EPA has implemented this policy in all other areas that have made use of federal Tier 2 benefits in air quality plans from EPA's April 2000 MOBILE5 guidance, “MOBILE5 Information Sheet #8: Tier 2 Benefits Using MOBILE5.” All states whose attainment demonstrations or maintenance plans include interim MOBILE5-based estimates of the Tier 2 standards were required to make a commitment to revise and resubmit their MVEBs within either one or two years of the final release of MOBILE6 in order to gain SIP approval.

¹ Memoranda, “Guidance on Motor Vehicle Emissions Budgets in 1-Hour Ozone Attainment Demonstrations,” issued November 3, 1999, and “1-Hour Ozone Attainment Demonstrations and Tier 2/Sulfur Rulemaking,” issued November 8, 1999. Copies of these memoranda are on EPA's Web site at http://www.epa.gov/otaq/transp/traqconf.htm.

² The final rule on Tier 2 Motor Vehicle Emissions Standards and Gasoline Sulfur Control Requirements (“Tier 2 standards”) for passenger cars, light trucks, and larger passenger vehicles was published on February 10, 2000 (65 FR 6698).

On December 22, 2000, Wisconsin submitted a revision to the One-Hour Ozone Attainment Demonstration SIP for the Milwaukee severe ozone area and the Sheboygan ozone maintenance area. This SIP revision included, among other things, revised MVEBs using interim MOBILE5-based estimates of the Tier 2 standards and an enforceable commitment to revise the attainment demonstration using the MOBILE6 model, including MVEBs, within one year of the release of the model. Additional information on EPA's final approval of Wisconsin's December 22, 2000, submittal is in the November 13, 2001, Federal Register (66 FR 56931).

EPA officially released the MOBILE6 motor vehicle emissions factor model on January 29, 2002 (67 FR 4254). Thus, the effective date of that Federal Register notice constituted the start of the one year time period in which Wisconsin was required to revise its One-Hour Ozone Attainment Demonstration SIP using the MOBILE6 model. Wisconsin was required to submit this SIP revision to EPA by January 29, 2003.

II. What Is MOBILE6?

MOBILE is an EPA emissions factor model for estimating pollution from on-road motor vehicles in states outside of California. MOBILE calculates emissions of volatile organic compounds (VOCs), nitrogen oxides (NOX) and carbon monoxide (CO) from passenger cars, motorcycles, buses, and light-duty and heavy-duty trucks. The model accounts for the emission impacts of factors such as changes in vehicle emission standards, changes in vehicle populations and activity, and variation in local conditions such as temperature, humidity, fuel quality, and air quality programs.

MOBILE is used to calculate current and future inventories of motor vehicle emissions at the national and local level. These inventories are used to make decisions about air pollution policies and programs at the local, state and national level. Inventories based on MOBILE are also used to meet the federal Clean Air Act's SIP and transportation conformity requirements.

MOBILE6 is the first major update of the MOBILE model since 1993. The MOBILE model was first developed in 1978. It has been updated many times to reflect changes in the vehicle fleet and fuels, to incorporate EPA's growing understanding of vehicle emissions, and to cover new emissions regulations and modeling needs. Although some minor updates were made in 1996 with the release of MOBILE5b, MOBILE6 is the first major revision to MOBILE since MOBILE5a was released in 1993.

III. What Is the Purpose and Content of Wisconsin's Submittal?

To address its enforceable commitment made in the December 22, 2000, Attainment Demonstration SIP revision, the State submitted a proposed SIP revision on January 31, 2003, which revises the 2007 motor vehicle emissions inventories and the 2007 MVEBs using the MOBILE6 model. The January 31, 2003, submittal demonstrates that the new levels of motor vehicle emissions calculated using MOBILE6 continue to support achievement of the projected attainment of the one-hour ozone NAAQS for the Milwaukee area and maintenance of the ozone NAAQS for Sheboygan area.

IV. What Are the Revised MOBILE6 Inventories?

Table 1 below summarizes the revised motor vehicle emissions inventories in tons per summer day (tpd). The State developed these revised inventories using the latest planning assumptions, including updated vehicle registration data from 1999 through 2001, vehicle miles traveled (VMT), speeds, fleet mix, and SIP control measures. EPA is proposing to approve these revised 2007 motor vehicle emissions inventories.

Table 1.—Milwaukee's Revised Motor Vehicle Emissions Inventories
Area | 2007: VOC (tpd) | 2007: NOX (tpd)
Milwaukee Severe Area:
MOBILE6 Emissions | 30.34 | 69.32
Safety Margin | 1.86 | 2.08
Inventory Value | 32.20 | 71.40
Sheboygan Maintenance Area:
MOBILE6 Emissions | 2.86 | 5.62
Safety Margin | 0.43 | 0.78
Inventory Value | 3.24 | 6.40

V. Are the Revised MOBILE6 Inventories Consistent With Wisconsin's One-Hour Attainment Demonstration?

Wisconsin's attainment demonstration used photochemical grid modeling in the absolute sense. Absolute modeling refers to uses the output from a model to compare directly against a standard. For one-hour ozone, this means that the daily peak one-hour concentration predicted in every grid cell by the model would be compared to a ozone standard concentration of 124 parts per billion (ppb). This is best represented by the deterministic approach described in the 1996 Guidance on Use of Modeled Results to Demonstrate Attainment of the Ozone NAAQS, EPA, June 1996. That guidance also describes a statistical approach which allows a specific number of exceedances of the standard. However, final attainment is still determined in an absolute sense by comparing a predicted concentration with the one-hour standard value of 124 ppb. EPA has articulated its policy regarding the use of MOBILE6 in SIP development in its “Policy Guidance on the Use of MOBILE6 for SIP Development and Transportation Conformity” ³ and “Clarification of Policy Guidance for MOBILE6 in Mid-course Review Areas.” ⁴ This policy requires that new MOBILE6 MVEBs in areas that demonstrated attainment with absolute modeling meet two conditions. First, the new MOBILE6 based mobile source inventories are compared to the MOBILE5 based inventories for the attainment year. If the MOBILE6 mobile emissions are less than or equal to the MOBILE5 emissions, then the SIP continues to demonstrate attainment. Second, EPA's policy guidance requires the State to consider whether growth and control strategy assumptions for non-motor vehicle sources (i.e., point, area, and non-road mobile sources) are still accurate at the time the State developed submittal.

³ Memorandum, “Policy Guidance on the Use of MOBILE6 for SIP development and Transportation Conformity,” issued January 18, 2002. A copy of this memorandum can be found on EPA's Web site at http://www.epa.gov/otaq/transp/traqconf.htm.

⁴ Memorandum, “Clarification of Policy Guidance for MOBILE6 SIPs in Mid-course Review Areas,” issued February 12, 2003. A copy of this memorandum can be found on EPA's Web site at http://www.epa.gov/otaq/transp/traqconf.htm.

Consistent with this policy guidance, Wisconsin's updated MOBILE6 inventories were equal to the MOBILE5 attainment demonstration inventories for the Milwaukee and Sheboygan areas. It should be noted that Wisconsin used the latest planning assumptions in developing of the updated inventories. Wisconsin reviewed the growth and control strategy assumptions for non-motor vehicle sources, and concluded that these assumptions continue to be valid and support the one-hour Ozone Attainment Demonstration.

In summary, Wisconsin's January 31, 2003, submittal satisfies the conditions outlined in EPA's MOBILE6 Policy guidance, and demonstrates that the new levels of motor vehicle emissions calculated using MOBILE6 continue to support achievement of the projected attainment of the one-Hour Ozone NAAQS by the attainment date of 2007.

VI. Are Wisconsin's Motor Vehicle Emissions Budgets Approvable?

Table 2 below summarizes Wisconsin's revised 2007 MVEBs contained in the January 31, 2003, submittal. The State developed MVEBs using the latest planning assumptions, including updated vehicle registration data, VMT, speeds, fleet mix, and SIP control measures. The Wisconsin submittal met all applicable requirements and EPA is proposing to approve all of these budgets.

Table 2.—2007 Motor Vehicle Emissions Budgets
Area | 2007: VOC (tpd) | 2007: NOX(tpd)
Milwaukee Severe Area | 32.20 | 71.40
Sheboygan Maintenance Area | 3.24 | 6.40

Table 3 below summarizes the Sheboygan maintenance area's 2007 and new 2012 emissions inventory contained in the January 31, 2003, submittal:

Table 3.—Sheboygan Maintenance Area's Emissions Inventory
Source | 2007: VOC (tpd) | 2007: NOX (tpd) | 2012: VOC (tpd) | 2012: NOX (tpd)
Point | 3.4 | 25.0 | 3.7 | 26.9
Area | 7.2 | 2.2 | 7.4 | 2.2
Non-Road | 2.7 | 6.0 | 2.5 | 6.0
Mobile | 3.2 | 6.4 | 2.0 | 4.0
Total | 16.5 | 39.5 | 15.6 | 39.1

The above demonstrates the 2012 emissions will still maintain the total emissions for the area at or below the maintenance level. For this reason, EPA is approving the new projected MVEB for 2012.

Table 4 below summarizes Wisconsin's new 2012 MVEB contained in the January 31, 2003, submittal:

Table 4.—Sheboygan 2012 Motor Vehicle Emissions Budget
Area | 2012: VOC (tpd) | 2012: NOX (tpd)
Sheboygan Maintenance Area | 1.99 | 3.97

VII. EPA Action

EPA is approving the Wisconsin SIP revision submitted on January 31, 2003. This submittal revises Wisconsin's 2007 motor vehicle emission inventories and 2007 MVEBs using MOBILE6 for the Milwaukee severe ozone area and the Sheboygan ozone maintenance area. EPA is also approving a new 2012 projected MVEB for the Sheboygan ozone maintenance area.

EPA is publishing this action without prior proposal, because EPA views this as a noncontroversial revision and anticipates no adverse comments. However, in a separate document in this Federal Register publication, EPA is proposing to approve the SIP revision should adverse written comments be filed. This action will be effective without further notice unless EPA receives relevant adverse written comments by July 21, 2003. Should the Agency receive such comment, we will publish a final rule informing the public that this action will not take effect. Any parties interested in commenting on this action should do so at this time. If we do not receive comments, this action will be effective on August 19, 2003.

VIII. Statutory and Executive Order Reviews

Executive Order 12866: Regulatory Planning and Review

Under Executive Order 12866 (58 FR 51735, October 4, 1993), this action is not a “significant regulatory action” and therefore is not subject to review by the Office of Management and Budget.

Executive Order 13211: Actions Concerning Regulations That Significantly Affect Energy Supply, Distribution, or Use

For this reason, this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal government and Indian tribes, or on the distribution of power and responsibilities between the Federal government and Indian tribes, as specified by Executive Order 13175 (65 FR 67249, November 9, 2000).

Executive Order 13132: Federalism

This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children from Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by August 19, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Ozone, Volatile organic compound, Oxides of nitrogen, Transportation conformity.

Dated: June 9, 2003.
Bharat Mathur,
Acting Regional Administrator, Region 5.

Part 52, chapter I, title 40 of the Code of Federal Regulations is amended as follows:

PART 52—[AMENDED]

1. The authority citation for part 52 continues to read as follows:

Authority: 42 U.S.C. 7401-et seq.

Subpart YY—Wisconsin

2. Section 52.2585 is amended by adding paragraph (s) to read as follows:

§ 52.2585 Control strategy: Ozone.

* * * * *

(s) Approval—On January 31, 2003, Wisconsin submitted a revision to the ozone attainment plan for the Milwaukee severe ozone area and maintenance plan for Sheboygan County. These plans revised 2007 motor vehicle emission inventories and 2007 Motor Vehicle Emissions Budgets (MVEB) recalculated using the emissions factor model MOBILE6. The plan also included a new 2012 projected MVEB for the Sheboygan County. The following table outlines the MVEB for transportation conformity purposes for the Milwaukee severe ozone area and the Sheboygan ozone maintenance area:

2007 and 2012 Motor Vehicle Emissions Budgets
Area | 2007: VOC (tpd) | 2007: NOX (tpd) | 2012: VOC (tpd) | 2012: NOX (tpd)
Milwaukee Severe Area | 32.20 | 71.40 | na | na
Sheboygan Maintenance | 3.24 | 6.40 | 1.99 | 3.97
na means not applicable

* * * * *

[FR Doc. 03-15520 Filed 6-19-03; 8:45 am]

BILLING CODE 6560-50-P